DEPARTMENT OF TRANSPORTATION

Federal Aviation Administration

14 CFR Part 61

[Docket No. FAA-2008-0938; Amendment Nos. 61-128, 91-324, 141-15, and 142-7]

RIN 2120-AJ18

Pilot in Command Proficiency Check and Other Changes to the Pilot and Pilot School Certification Rules; Correction

AGENCY: Federal Aviation Administration (FAA), DOT.

ACTION: Final rule; correcting amendment.

SUMMARY: The FAA is correcting a final rule published on August 31, 2011 (76 FR 54095). In that rule, the FAA amended its regulations to revise the pilot, flight instructor, and pilot school certification requirements. In particular, the FAA expanded the obligation for a pilot-in-command (PIC) proficiency check to pilots of all turbojet-powered aircraft. This expansion included single-pilot turbojet-powered aircraft and, with some exceptions, also included turbojet-powered experimental aircraft. The FAA intended, and those that commented on the proposed rule expected, a period that would allow pilots of these aircraft sufficient time to come into compliance with the new PIC requirement. This document corrects the final rule to establish this period for initial compliance.

DATES: The effective date of this technical correction is October 31, 2011.

FOR FURTHER INFORMATION CONTACT: For technical questions concerning this final rule contact Jeffrey Smith, Airman Certification and Training Branch, General Aviation and Commercial Division, AFS-810, Federal Aviation Administration, 800 Independence Avenue, SW., Washington, DC 20591; telephone (202) 385-9615; e-mail Jeffrey.Smith@faa.gov. For legal questions concerning this final rule contact Michael Chase, Esq., Office of Chief Counsel, AGC-240, Regulations Division, Federal Aviation Administration, 800 Independence Avenue, SW., Washington, DC 20591; telephone (202) 267-3110; e-mail Michael.Chase@faa.gov.

SUPPLEMENTARY INFORMATION:

Background

On August 31, 2011 (76 FR 54095), the FAA published a final rule that amended the pilot, flight instructor, and pilot school certification requirements. The FAA is now issuing a technical amendment to correct the failure to include a period of time to allow the regulated entities to come into compliance with the final rule.

Correction

As part of the final rule, the FAA revised § 61.58 to extend the requirements for PIC proficiency checks. Prior to the final rule, this section only required PIC proficiency checks for pilots acting as PIC in aircraft that were type certificated for more than one pilot flight crewmember. In the Notice of Proposed Rulemaking (NPRM) published on August 31, 2009 (74 FR 44779), the FAA proposed to extend the § 61.58 PIC proficiency check requirements to pilots acting as PIC of any turbojet powered aircraft. The FAA received a significant amount of comments opposing the proposed rule as written due to the impact it would have on pilots operating experimental jets. Based on the comments, the FAA intentionally included the § 61.58 PIC proficiency check requirements for pilots operating experimental turbojet-powered aircraft. However, pilots operating experimental aircraft that possessed only one seat through original design or through modification were excepted from these requirements, and pilots of other experimental turbo-jet powered aircraft were given several alternative means of compliance with the § 61.58 proficiency check requirements.

In contrast to the comments regarding experimental jets, the FAA did not receive any comments during the NPRM phase expressing resistance to § 61.58 PIC proficiency checks for pilots of standard category, single-piloted turbojet-powered aircraft. In fact, several of the commenters expressed the opinion that the proposal was appropriate for standard category aircraft that are type certificated to be flown by a single pilot. The FAA intentionally included the § 61.58 PIC proficiency check requirements for pilots that operate a standard category turbojet aircraft to receive proficiency.

Prior to the final rule, pilots of these aircraft were not required to comply with the provisions of § 61.58; however, the final rule did not include the intended and necessary transition period for these pilots to come into compliance. The final rule becomes effective on October 31, 2011, and, without this correction, does not provide adequate time for compliance with the§ 61.58 PIC proficiency check requirements. This correction to the final rule will allow pilots operating these aircraft 1 additional year, until October 31, 2012, to complete an initial § 61.58 PIC proficiency check.

The FAA believes that some pilots that operate turbojet-powered aircraft undergo annual training and testing in order to satisfy insurance requirements. While the training and testing may be sufficient in scope to complete a § 61.58 PIC proficiency check going forward, prior to the final rule these pilots may not have been able to complete a § 61.58 PIC proficiency check. The FAA intended for there to be sufficient transition period for these pilots to complete a § 61.58 PIC proficiency check within their normal annual training cycle. The intended transition period of 1 year will allow training providers sufficient time to adjust their training program as necessary in order to include a § 61.58 PIC proficiency check as a part of their offered courses. The transition period will also allow pilots not currently receiving annual training the ability to make arrangements to complete a § 61.58 PIC proficiency check. This correction provides this transition period by establishing the initial compliance date for a § 61.58 PIC proficiency check for those pilots not previously subject to the provisions of this section.

The Amendment

In consideration of the foregoing, the Federal Aviation Administration amends chapter I of title 14, Code of Federal Regulations as follows:

PART 61—CERTIFICATION: PILOTS, FLIGHT INSTRUCTORS, AND GROUND INSTRUCTORS

1. The authority citation for part 61 continues to read as follows:

Authority: 49 U.S.C. 106(g), 40113, 44701-44703, 44707, 44709-44711, 45102-45103, 45301-45302.

2. Amend § 61.58 by adding paragraphs (j) and (k) to read as follows:

§ 61.58 Pilot-in-command proficiency check: Operation of aircraft requiring more than one pilot flight crewmember.

* * * * *

(j) A pilot-in-command of a turbojet powered aircraft that is type certificated for one pilot does not have to comply with the pilot-in-command proficiency check requirements in paragraphs (a)(1) and (a)(2) of this section until October 31, 2012.

(k) Unless required by the aircraft's operating limitations, a pilot-in-command of an experimental turbojet-powered aircraft does not have to comply with the pilot-in-command proficiency check requirements in paragraphs (a)(1) and (a)(2) of this section until October 31, 2012.

Issued in Washington, DC, on October 4, 2011.
Dennis R. Pratte,
Acting Director, Office of Rulemaking.

[FR Doc. 2011-26229 Filed 10-11-11; 8:45 am]

BILLING CODE 4910-13-P